DEPARTMENT OF LABOR

Employment and Training Administration

[TA-W-63,424]

Ferguson Aluminum, Olmsted, IL; Notice of Termination of Investigation

Pursuant to Section 221 of the Trade Act of 1974, as amended, an investigation was initiated on May 22, 2008 in response to a worker petition filed by a company official on behalf of workers at Ferguson Aluminum, Olmsted, Illinois.

The petitioner has requested that petition be withdrawn. Consequently, the investigation has been terminated.

Signed at Washington, DC, this 27th day of June 2008.
Richard Church,
Certifying Officer, Division of Trade Adjustment Assistance.

[FR Doc. E8-15342 Filed 7-7-08; 8:45 am]

BILLING CODE 4510-FN-P